DEPARTMENT OF HEALTH AND HUMAN SERVICES

Centers for Medicare & Medicaid Services

42 CFR Part 424

[CMS-1510-CN]

RIN 0938-AP88

Medicare Program; Home Health Prospective Payment System Rate Update for Calendar Year 2011; Changes in Certification Requirements for Home Health Agencies and Hospices; Correction

AGENCY: Centers for Medicare & Medicaid Services (CMS), HHS.

ACTION: Correction of final rule.

SUMMARY: This document corrects a technical error in an amendatory instruction of the regulations text in the final rule that appeared in the November 17, 2010 Federal Register entitled “Medicare Program; Home Health Prospective Payment System Rate Update for Calendar Year 2011; Changes in Certification Requirements for Home Health Agencies and Hospices” final rule (75 FR 70372).

DATES: Effective Date: This correction is effective January 1, 2011.

FOR FURTHER INFORMATION CONTACT: Annette Brewer, (410)786-6580.

SUPPLEMENTARY INFORMATION:

I. Background

In FR Doc. 2010-27778 of November 17, 2010 (75 FR 70372), there was a technical error that is identified and corrected in this document. The provisions of this notice are effective as if they had been included in the Medicare Program; Home Health Prospective Payment System Rate Update for Calendar Year 2011; Changes in Certification Requirements for Home Health Agencies and Hospices” final rule. Accordingly, the corrections are effective January 1, 2011.

II. Summary of Errors

On page 70465 of the November 17, 2010 final rule, we made a technical error in the amendatory instruction for § 424.550. In the amendatory instruction #11, the phrase “adding paragraphs (b)(1) and (b)(2)” is corrected to read “revising paragraph (b)(1) and adding paragraph (b)(2)”.

III. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive the notice and comment procedure if the Secretary finds, for good cause, that the notice and comment process is impracticable, unnecessary, or contrary to the public interest, and incorporates a statement of the finding and the reasons for it in the rule.

Section 553(d) of the APA ordinarily requires a 30-day delay in the effective date of final rules after the date of their publication. This 30-day delay in effective date can be waived, however, if an agency finds for good cause that the delay is impracticable, unnecessary, or contrary to the public interest, and the agency incorporates a statement of the findings and its reasons in the rule issued.

This action merely corrects a technical error in the amendatory instruction for the regulations text in the November 17, 2010 final rule that was promulgated through notice and comment rulemaking. We are in no way changing the policy contained in that rule. For this reason, we find that both notice and comment and the 30-day delay in effective date for this action are unnecessary.

IV. Correction of Errors

In FR Doc. 2010-27778 of November 17, 2010 (75 FR 70372), make the following correction:

§ 424.550 [Corrected]

On page 70465, in the 1st column; amendatory instruction #11, the phrase “adding paragraphs (b)(1) and (b)(2)” is corrected to read “revising paragraph (b)(1) and adding paragraph (b)(2)”.

Authority: (Catalog of Federal Domestic Assistance Program No. 93.773, Medicare—Hospital Insurance; and Program No. 93.774, Medicare—Supplementary Medical Insurance Program)

Dated: December 1, 2010.
Dawn L. Smalls,
Executive Secretary to the Department.

[FR Doc. 2010-30651 Filed 12-7-10; 8:45 am]

BILLING CODE 4120-01-P